DEPARTMENT OF THE INTERIOR

National Park Service

[NPS-WASO-NAGPRA-NPS0039413; PPWOCRADN0-PCU00RP14.R50000]

Notice of Inventory Completion: Pocumtuck Valley Memorial Association, Deerfield, MA

AGENCY: National Park Service, Interior.

ACTION: Notice.

SUMMARY: In accordance with the Native American Graves Protection and Repatriation Act (NAGPRA), the Pocumtuck Valley Memorial Association has completed an inventory of human remains and has determined that there is a cultural affiliation between the human remains and Indian Tribes or Native Hawaiian organizations in this notice.

DATES: Repatriation of the human remains in this notice may occur on or after April 16, 2025.

ADDRESSES: Ray Radigan, Pocumtuck Valley Memorial Association, 10 Memorial Street, Deerfield, MA 01342, telephone (413) 774-4466, email rradigan@deerfieldmuseum.org.

SUPPLEMENTARY INFORMATION: This notice is published as part of the National Park Service's administrative responsibilities under NAGPRA. The determinations in this notice are the sole responsibility of the Pocumtuck Valley Memorial Association, and additional information on the determinations in this notice, including the results of consultation, can be found in its inventory or related records. The National Park Service is not responsible for the determinations in this notice.

Abstract of Information Available

Human remains representing, one individual have been identified. No associated funerary objects are present. Human Remains (one individual)—Crania. Acquired by Pocumtuck Valley Memorial Association in 1885 by donation of James S. Reed. Accession Book Entry recorded in 1885: “An Indian Skull taken from the bottom of a mound in Coshocton Ohio by Proff E. E. Henry in 1885—The body was extended in burial, the rest of the bones were nearly all decayed and gone—Fragments of pottery were found about the head—Mingled with small stones—It is possible that the sound condition of the skull is due to some process of embalming? or ossifying?—It was presented by Proff Henry—who was satisfied the Mound was built as a funeral pile—to the donor.”

Cultural Affiliation

Based on the information available and the results of consultation, cultural affiliation is reasonably identified by the geographical location or acquisition history of the human remains described in this notice.

Determinations

The Pocumtuck Valley Memorial Association has determined that:

• The human remains described in this notice represent the physical remains of one individual of Native American ancestry.

• There is a connection between the human remains described in this notice and the Absentee Shawnee Tribe of Indians of Oklahoma; Eastern Shawnee Tribe of Oklahoma; and the Shawnee Tribe.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 16, 2025. If competing requests for repatriation are received, the Pocumtuck Valley Memorial Association must determine the most appropriate requestor prior to repatriation. Requests for joint repatriation of the human remains are considered a single request and not competing requests. The Pocumtuck Valley Memorial Association is responsible for sending a copy of this notice to the Indian Tribes and Native Hawaiian organizations identified in this notice.

Authority: Native American Graves Protection and Repatriation Act, 25 U.S.C. 3003, and the implementing regulations, 43 CFR 10.10.

Dated: January 23, 2025.
Melanie O'Brien,
Manager, National NAGPRA Program.

[FR Doc. 2025-04197 Filed 3-14-25; 8:45 am]

BILLING CODE 4312-52-P